DEPARTMENT OF DEFENSE

Department of the Army; Corps of Engineers

Intent To Prepare a Supplemental Environmental Impact Statement/Environmental Impact Report (SEIS/EIR) for the Seven Oaks Dam To Implement Measures To Sustain Federally-Listed Species as Identified in the 2002 Biological Opinion Within the Woolly Star Preserve Area in San Bernardino County, CA

AGENCY: Department of the Army, U.S. Army Corps of Engineers, DOD.

ACTION: Notice of Intent.

SUMMARY: The purpose of the study is to develop implementation plans to sustain federally-listed species within the Woolly Star Preserve Area, including the Slender-horned spineflower, San Bernardino Kangaroo Rat, and Santa Ana Woolly Star. As a requirement of the Biological Opinion (2002), for construction and operation of Seven Oaks Dam (SOD), the Corps prepared a Multi-Species Habitat Management Plan (MSHMP) to identify potential management measures and implementation strategies. Recommendations in the Draft MSHMP have been developed in collaboration with the U.S. Fish and Wildlife Service, California Department of Fish and Game, and other stakeholders. The Draft MSHMP identifies non-structural and structural measures. Non-structural measures could include, but are not limited to, herbicide treatment for non-native invasive grass control and providing water to the mitigation area through pipelines or trucks to hydraulically spread sand for substrate enhancement. Structural measures could include, but not limited to, controlled releases from SOD and dikes (permanent and/or temporary) used to direct hydraulic spreading of sand for substrate enhancement. The SEIS/EIR will examine the details of the measures identified above and other feasible alternatives based on hydrological, geotechnical, environmental, and technical factors. Management activities would be conducted within the Woolly Star Preserve Area and other adjacent lands.

DATES: Submit comments to Ms. Megan Wong at the address listed below, on or before June 15, 2008.

ADDRESSES: U.S. Army Corps of Engineers, Los Angeles District, CESPL-PD-RN, c/o Megan Wong, P.O. Box 532711, Los Angeles, CA 90053-2325.

FOR FURTHER INFORMATION CONTACT: Ms. Megan Wong, Project Environmental Coordinator, at (213) 452-3859 or e-mail at Megan.T.Wong@usace.army.mil.

SUPPLEMENTARY INFORMATION:

1. Authorization

The Santa Ana Mainstem flood control project was authorized by section 401(a) of the Water Resources Development Act of 1986 (100 Stat. 4113) and modified by section 104 of the Energy and Water Development Appropriations Act, 1988 (101 Stat. 1329-11), section 102(e) of the Water Resources Development Act of 1990 (104 Stat. 4611), and section 311 of the Water Resources Development Act of 1996 (110 Stat. 3713).

2. Background

Seven Oaks Dam is one component of the Santa Ana River Mainstem Project (SARP), which provides flood risk management along the Santa Ana River. The SARP extends approximately 75 miles from the upper Santa Ana River Canyon in the San Bernardino Mountains downstream to its confluence with the Pacific Ocean at Newport Beach, California. Seven Oaks Dam was constructed between 1994 and 1999, is a 550-foot high earthen dam with a gross retention capacity of 145,600 acre-feet at the spillway crest elevation (USACE 2000a). Environmental impacts and mitigation associated with construction of the SARP were addressed in the 1988 Supplemental Environmental Impact Statement (SEIS) associated with the Phase II General Design Memorandum (GDM) on the Santa Ana River Mainstem Including Santiago Creek, California (USACE 1988a). Because federally-listed endangered species may be present and critical habitat occurs in the action area of this major construction project, the U.S. Army Corps of Engineers (USACE) prepared biological assessments (BAs) and engaged in informal and formal consultation with the U.S. Fish and Wildlife Service (USFWS) pursuant to section 7(a)(2) of the Endangered Species Act (ESA).

The U.S. Fish and Wildlife Service (USFWS) issued biological opinions (BOs) in 1989 and 2002 and it was determined by the USFWS that the SARP would not jeopardize the continued existence of the Santa Ana woolly star, slender-horned spineflower, San Bernardino kangaroo rat, and least bell's vireo with implementation of proposed compensatory mitigation (including land acquisition, preservation, and/or enhancement) and additional conservation measures (USFWS 1989, 2002). The 1989 BO addresses compensation, reasonable and prudent measures, and conservation recommendations specific to woolly star and least bell's vireo. The 2002 BO addresses additional conservation measures for multi-species habitat management to sustain SBKR, spineflower, and woolly star on WSPA lands.

3. Scoping Process

a. A scoping meeting is scheduled on May 15, 2008, 6:30 p.m., at the San Bernardino County Flood Control District, 825 E. Third Street, San Bernardino, CA 92415. The Public Scoping meeting will be announced by means of a letter, public announcements and news releases. Potential impacts and benefits associated with the various alternatives will be evaluated in the SEIS/EIR. Resource categories that will be analyzed are: Physical environment, geology, biological resources, air quality, water quality, recreational usage, aesthetics, cultural resources, transportation, noise, hazardous waste, socioeconomics and safety.

b. Participation of affected Federal, State and local resource agencies, and concerned interest groups/individuals is encouraged in the scoping process. Public participation will be especially important in defining the scope of analysis in the Supplemental EIS/EIR, identifying significant environmental issues and impact that require analysis in the Supplemental EIS/EIR and providing useful information such as published and unpublished data, personal knowledge of relevant issues and recommending alternatives to be considered.

c. Those interested in providing information or data relevant to the environmental or social impacts that should be included or considered in the environmental analysis can furnish this information by writing to the points of contact indicated above or by attending the public scoping meeting. A mailing list will also be established so pertinent data may be distributed to interested parties.

Dated: April 22, 2008.
Thomas H. Magness,
Colonel, U.S. Army, District Commander.

[FR Doc. E8-9488 Filed 5-1-08; 8:45 am]

BILLING CODE 3710-KF-P